DEPARTMENT OF COMMERCE

International Trade Administration

Initiation of Antidumping and Countervailing Duty Administrative Reviews and Request for Revocation in Part

AGENCY: Import Administration, International Trade Administration, Department of Commerce.

ACTION: Notice of Initiation of Antidumping and Countervailing Duty Administrative Reviews and Request for Revocation in Part.

SUMMARY: The Department of Commerce has received requests to conduct administrative reviews of various antidumping and countervailing duty orders and findings with April anniversary dates. In accordance with the Department's regulations, we are initiating those administrative reviews. The Department of Commerce also received a request to revoke one antidumping duty order in part.

EFFECTIVE DATE: May 27, 2004.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2002), for administrative reviews of various antidumping and countervailing duty orders and findings with April anniversary dates. The Department also received a timely request to revoke in part the antidumping duty order on Certain Steel Concrete Reinforcing Bars from Turkey.

Initiation of Reviews:

In accordance with section 19 CFR 351.221(c)(1)(i), we are initiating administrative reviews of the following antidumping and countervailing duty orders and findings. We intend to issue the final results of these reviews not later than April 30, 2005.

| Period to be reviewed
Antidumping Duty Proceedings
Italy: Stainless Steel Bar,¹ A-475-829 | 3/1/03-2/29/04
Ugine-Savoie/Ugitech, S.A.
The People's Republic of China: Automotive Replacement Glass Windshields,² A-570-867 | 4/1/03-3/31/04
Changchun Pilkington Safety Glass Company, Ltd.
Dongguan Kongwan Automobile Glass, Ltd.
Fuyao Glass Industry Group Company, Ltd.
Peaceful City, Ltd.
Shenzhen CSG Automotive Glass Co., Ltd.
Shenzhen Benxun AutoGlass Co., Ltd.
Shenzhen Benxun Automotive Glass Co., Ltd.
Shenzhen Benxun Automotive Co., Ltd.
Shenzhen Benxun AutoGlass Co., Ltd., d/b/a Shenzhen CSG Automotive Glass Co., Ltd.
Shenzhen CSG Automotive Glass Co., Ltd. (Shenzhen Benxun Automotive Co., Ltd.)
Shenzhen CSG Automotive Glass Co., Ltd. (Shenzhen Benxun Automotive Glass Co., Ltd.)
Wuhan Yaohua Pilkington Safety Glass Company, Ltd.
The People's Republic of China: Brake Rotors,³ A-570-846 | 4/1/03-3/31/04
China National Machinery and Equipment Import & Export (Xianjiang) Corporation, and manufactured by any company other than Zibo Botai Manufacturing Co., Ltd.
China National Automotive Industry Import & Export Corporation, and manufactured by any company other than Laizhou CAPCO Machinery Co., Ltd.
Laizhou CAPCO Machinery Co., Ltd., and manufactured by any company other than Laizhou CAPCO Machinery Co., Ltd.
Laizhou Luyuan Automobile Fittings Co., and manufactured by any company other than Laizhou Luyuan Automobile Fittings Co., or Shenyang Honbase Machinery Co., Ltd.
Shenyang Honbase Machinery Co., Ltd., and manufactured by any company other than Laizhou Luyuan Automobile Fittings Co., or Shenyang Honbase Machinery Co., Ltda.,
China National Industrial Machinery Import & Export Corporation
Laizhou Automobile Brake Equipment Co., Ltd.
Qingdao Gren (Group) Co.
Yantai Winhere Auto-Part Manufacturing Co., Ltd.
Longkou Haimeng Machinery Co., Ltd.
Zibo Luzhou Automobile Parts Co., Ltd.
Laizhou Hongda Auto Replacement Parts Co., Ltd.
Hongfa Machinery (Dalian) Co., Ltd.
Qingdao Meita Automotive Industry Co., Ltd.
Shangdong Huanri Group General Co.
Longkou TLC Machinery Co., Ltd.
Zibo Golden Harvest Machinery Limited Company
Shanxi Fengkun Metalurgical Limited Company
Xianghe Xumingyuan Auto Parts Co., Ltd.
Xiangfen Hengtai Brake System Co., Ltd.
Laizhou City Luqi Machinery Co., Ltd.
Qingdao Rotec Auto Parts Co., Ltd.
Shenyang Yinghao Machinery Co., Ltd.
The People's Republic of China: Non-Malleable Cast Iron Pipe Fittings,⁴ A-570-875 | 4/1/03-3/31/04
Shanghai Foreign Trade Enterprise Co., Ltd.
Jinan Meide Casting Company, Ltd.
Turkey: Certain Steel Concrete Reinforcing Bars A-489-807 | 4/1/03—3/31/04
Cebitas Demir Celik Endustrisi A.S.
Cemtas Celik Makina Sanayi
Colakoglu Metalurji AS and Colokaglu Dis Ticaret
Demirsan Haddecilik San. Ve Tic. AS
Diler Demir Celik Endustri ve Ticaret
Ege Celik Endustrisi San. Ve Tic. AS
Ege Metal Demir Celik Sanayi ve Ticaret AS
Ekinciler Holding A.S. and Ekinciler Demir ve Celik San A.S.
Habas Sinai ve Tibbi Gazlar Istihsal Endustrisi A.S.
ICDAS Celik Enerji Tersane ve Ulasim Sanayi, A.S.
Iskenderun Iron & Steel Works Co.
Izmir Demir Celik Sanayi AS
Kaptan Demir Celik Endustrisi ve Ticaret AS
Kardemir—Karabuk Demir Celik Sanayi ve Ticaret AS
Kroman Steel Industries Co. (Kroman Celik San. AS)
Kurum Demir San. Ve Ticaret Metalenerji AS
Metas Izmir Metalurji Fabrikasi Turk AS
Nurmet Celik Sanayi ve Ticaret AS
Nursan Celik Sanayi ve Haddecilik AS
Sivas Demir Celik Isletmeleri AS
Tosyali Demir Celik Sanayi AS
Ucel Haddecilik Sanayi ve Ticaret AS
Yazici Demir Celik San. Ve Ticaret AS
¹ Case inadvertently omitted from previous initiation notice.
² If one of the named companies does not qualify for a separate rate, all other exporters of automotive replacement glass windshields from the People's Republic of China who have not qualified for a separate rate are deemed to be covered by this review as part of the single PRC entity of which the named exporters are a part.
³ If one of the named companies does not qualify for a separate rate, all other exporters of brake rotors from the People's Republic of China who have not qualified for a separate rate are deemed to be covered by this review as part of the single PRC entity of which the named exporters are a part.
⁴ If one of the named companies does not qualify for a separate rate, all other exporters of non-malleable cast iron pipe fittings from the People's Republic of China who have not qualified for a separate rate are deemed to be covered by this review as part of the single PRC entity of which the named exporters are a part.

Countervailing Duty Proceedings

None.

Suspension Agreements

None.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistant with FAG Italia S.p.A. v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: May 21, 2004.
Holly A. Kuga,
Acting Deputy Assistant Secretary , Group II for Import Administration.

[FR Doc. 04-12039 Filed 5-26-04; 8:45 am]

BILLING CODE 3510-DS-P